DEPARTMENT OF AGRICULTURE

Commodity Credit Corporation

Domestic Sugar Program—Overall Sugar Marketing Allotment, Cane Sugar and Beet Sugar Marketing Allotments and Company Allocations

AGENCY: Commodity Credit Corporation, USDA.

ACTION: Notice.

SUMMARY: The United States Department of Agriculture (USDA) is issuing this notice to announce the fiscal year (FY) 2023 (2022 crop year) overall sugar marketing allotment quantity (OAQ), State cane sugar allotments, and sugar beet and sugarcane processor allocations, which apply to all domestic beet and cane sugar marketed for human consumption in the United States from October 1, 2022, through September 30, 2023.

FOR FURTHER INFORMATION CONTACT: Kent Lanclos, telephone, (202) 720-0114; or email, kent.lanclos@usda.gov. Persons with disabilities who require alternative means for communication should contact the USDA Target Center at (202) 720-2600 (voice).

SUPPLEMENTARY INFORMATION: The Agricultural Adjustment Act of 1938, as amended, requires USDA to establish the OAQ at a quantity not less than 85 percent of the estimated quantity of sugar for domestic human consumption for the crop year. USDA is establishing the initial FY 2023 (2022 crop year) OAQ at 10,646,250 short tons, raw value (STRV), which is equal to 85 percent of 12,525,000 STRV, the estimated quantity of sugar for domestic human consumption for FY 2023 as forecast in the September 2022 World Agricultural Supply and Demand Estimates report. The Agricultural Adjustment Act of 1938, as amended, requires that 54.35 percent of the OAQ be distributed among beet processors and 45.65 percent be distributed among the sugarcane States and cane processors. The beet and cane sector allotments are distributed to individual processors according to formulas set out in law.¹ Although the Agricultural Adjustment Act of 1938, as amended directs USDA to assign 325,000 STRV of the cane sector allotment to “offshore States,” CCC has determined that no offshore States exist. While sugar cane was formerly produced in Puerto Rico and Hawaii, CCC has determined that both states have permanently exited sugarcane production. As a result, CCC has allocated the 325,000 STRV of the cane sector allotment previously reserved for offshore States to the mainland sugarcane producing States. The initial FY 2023 sugar marketing State allotments and processor allocations are listed in the table below.

¹ See 7 U.S.C. 1359aa, et seq., and 7 CFR part 1435.

FY 2023 Overall Beet and Cane Allotments and Allocations
[short tons, raw value]
Distribution | Initial FY 2023 allocation
Beet Sugar | 5,786,237
Cane Sugar | 4,860,013
Total OAQ | 10,646,250
Beet Processors Marketing Allocations
Amalgamated Sugar Co | 1,238,877
American Crystal Sugar Co | 2,128,113
Michigan Sugar Co | 597,577
Minn-Dak Farmers Co-op | 401,848
So. Minn Beet Sugar Co-op | 780,958
Western Sugar Co | 590,415
Wyoming Sugar Co. LLC | 48,449
Total Beet Sugar | 5,786,237
State Cane Sugar Allotments
Florida | 2,612,146
Louisiana | 2,020,789
Texas | 227,078
Total Cane Sugar | 4,860,013
Cane Processors' Marketing Allocation
Florida:
Florida Crystals | 1,075,489
Growers Co-op of FL | 469,887
U.S. Sugar Crop | 1,066,770
Total | 2,612,146
Louisiana:
Louisiana Sugar Cane Products, Inc | 1,402,896
M.A. Patout & Sons | 617,893
Total | 2,020,789
Texas:
Rio Grande Valley | 227,078

USDA will closely monitor stocks, consumption, imports and all sugar market and program variables on an ongoing basis and may make program adjustments during FY 2023 if needed.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 (voice and TTY) or (844) 433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Zach Ducheneaux,
Executive Vice President, Commodity Credit Corporation.

[FR Doc. 2022-21228 Filed 9-29-22; 8:45 am]

BILLING CODE 3411-E2-P